DEPARTMENT OF COMMERCE

National Oceanic and Atmospheric Administration

[I.D. 062602D]

North Pacific Fishery Management Council; Notice of Committee Meeting

AGENCY: National Marine Fisheries Service (NMFS), National Oceanic and Atmospheric Administration (NOAA), Commerce.

ACTION: Committee meetings.

SUMMARY: The North Pacific Fishery Management Council (Council) has scheduled two committee meetings.

DATES: The meeting dates are:

July 15, 2002, Anchorage, AK

July 18-29, 2002, Seattle, WA

ADDRESSES: The meeting locations are:

1. Anchorage—RuralCap Board Room, 731 Gambell Street, Anchorage AK.

2. Seattle—Alaska Fisheries Science Center, 7600 Sand Point Way NE, Building 4, Seattle, WA.

Council address: North Pacific Fishery Management Council, 605 W. 4th Ave., Suite 306, Anchorage, AK 99501-2252.

FOR FURTHER INFORMATION CONTACT: Council Staff: 907-271-2809.

SUPPLEMENTARY INFORMATION: July 15, 2002—The Halibut Subsistence Committee will meet in Anchorage, Alaska. The Committee will meet between 9 a.m.-4:30 p.m. at the RuralCap Board Room, 731 Gambell Street, Anchorage AK, to develop criteria for harvest limitations to be placed on community harvest permits to federally recognized tribes and other local governments of eligible communities.

July 18-29, 2002—The Council’s Observer Advisory Committee will meet at the Alaska Fisheries Science Center, 7600 Sand Point Way NE, Building 4, to discuss long-term structural changes to the North Pacific Council’s observer program. For specific starting times and meeting room, please see the Council’s website: www.fakr.noaa.gov/npfmc.

Although other issues not contained in this notice may come before the Committees for discussion, in accordance with the Magnuson-Stevens Fishery Conservation and Management Act, those issues may not be the subject of formal action during the meeting. Action will be restricted to those issues specifically identified in this notice.

Special Accommodations

This meeting is physically accessible to people with disabilities. Requests for sign language interpretation or other auxiliary aids should be directed to Helen Allen, 907-271-2809, at least 5 working days prior to the meeting date.

Dated: June 26, 2002.
Theophilus R. Brainerd,
Acting Director, Office of Sustainable Fisheries, National Marine Fisheries Service.

[FR Doc. 02-16529 Filed 6-28-02; 8:45 am]

BILLING CODE 3510-22-S